DEPARTMENT OF AGRICULTURE

Office of the Secretary

Notice of Appointment of Members to the National Agricultural Research, Extension, Education, and Economics Advisory Board

AGENCY: Research, Education, and Economics, USDA.

ACTION: Solicitation for membership.

SUMMARY: In accordance with the Federal Advisory Committee Act, 5 U.S.C. App., the United States Department of Agriculture announces solicitation for nominations to fill 12 vacancies on the National Agricultural Research, Extension, Education, and Economics Advisory Board.

DATES: Deadline for Advisory Board member nominations is July 31, 2003.

ADDRESSES: The nominee's name, resume, and completed Form AD-755 must be sent to the U.S. Department of Agriculture, Office of the Advisory Board; Research, Education, and Economics; 1400 Independence Avenue, SW.; Room 344-A, Whitten Building; Washington, DC 20250-2255.

FOR FURTHER INFORMATION CONTACT: Deborah Hanfman, Executive Director, National Agricultural Research, Extension, Education, and Economics Advisory Board; 1400 Independence Avenue, SW.; Room 344-A, Whitten Building; Washington, DC 20250-2255; telephone: 202-720-3684; fax: 202-720-6199; e-mail: dhanfman@reeusda.gov.

SUPPLEMENTARY INFORMATION: Section 1408 of the National Agricultural Research, Extension, and Teaching Policy Act of 1977 (7 U.S.C. 3123) was amended by the Farm Security and Rural Investment Act of 2002 by adding one additional member to the National Agricultural Research, Extension, Education, and Economics Advisory Board which totals 31 members. Since the Advisory Board's inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for a one, two, and three-year term, respectively. The terms for 12 of the 31 members who represent specific categories will expire September 30, 2003. Nominations for a three-year appointment for these 12 vacant categories are sought. All nominees will be carefully reviewed for their expertise, leadership, and relevance to a category.

The 12 slots to be filled are:

Category A. National Farm Organizations

Category C. Food Animal Commodity Producers

Category E. National Animal Commodity Organizations (one-year term)

Category F. National Crop Commodity Organizations

Category K. National Human Health Associations

Category P. Hispanic-Serving Institutions

Category Q. American Colleges of Veterinary Medicine

Category R. Non-land Grant College or University with a Historic Commitment to Research in the Food and Agricultural Sciences

Category T. Transportation of Food and Agricultural Products (foreign and domestic)

Category V. Food and Fiber Processors

Category AA. International Development/Private Sector Organizations

Category DD. National Social Science Associations

Nominations are being solicited from organizations, associations, societies, councils, federations, groups, and companies that represent a wide variety of food and agricultural interests throughout the country. Nominations for one individual who fits several of the categories listed above, or for more than one person who fits one category will be accepted. In your nomination letter, please indicate the specific membership category for each nominee. Each nominee must fill out a Form AD-755, “Advisory Committee Membership Background Information” (which can be obtained from the contact person below or may printed out from the following Web site: http://www.fs.fed.us then search AD-755). All nominees will be vetted before selection.

Nominations are open to all individuals without regard to race, color, religion, sex, national origin, age, mental or physical handicap, marital status, or sexual orientation. To ensure that recommendations of the Advisory Board take into account the needs of the diverse groups served by the Department, membership shall include, to the extent practicable, individuals with demonstrated ability to represent minorities, women, and persons with disabilities.

Appointments to the National Agricultural Research, Extension, Education, and Economics Advisory Board will be made by the Secretary of Agriculture.

Done at Washington, DC this 19th day of June 2003.
Joseph J. Jen
Under Secretary, Research, Education, and Economics.

[FR Doc. 03-16435 Filed 6-27-03; 8:45 am]

BILLING CODE 3410-22-P